DEPARTMENT OF THE INTERIOR

Fish and Wildlife Service

50 CFR Part 32

RIN 1018-AI63

2003-2004 Refuge-Specific Hunting and Sport Fishing Regulations

AGENCY: Fish and Wildlife Service, Interior.

ACTION: Final rule.

SUMMARY: The Fish and Wildlife Service adds seven additional refuges to the list of areas open for hunting and/or sport fishing activities and increases the activities available at three other refuges for 2003-2004.

DATES: This rule is effective October 2, 2003.

FOR FURTHER INFORMATION CONTACT: Leslie A. Marler, (703) 358-2397; Fax (703) 358-2248.

SUPPLEMENTARY INFORMATION: The National Wildlife Refuge System Administration Act of 1966 (Administration Act) closes national wildlife refuges to all uses until opened. The Secretary of the Interior (Secretary) may open refuge areas to any use, including hunting and/or fishing, upon a determination that such uses are compatible with the purposes of the refuge and National Wildlife Refuge System mission. The action also must be in accordance with provisions of all laws applicable to the areas, developed in coordination with the appropriate State fish and wildlife agency(ies), and consistent with the principles of sound fish and wildlife management and administration. These requirements ensure that we maintain the biological integrity, diversity, and environmental health of the National Wildlife Refuge System (System or we) for the benefit of present and future generations of Americans.

We annually review refuge hunting and fishing programs to determine whether to include additional refuges.

Provisions governing hunting and fishing on national wildlife refuges are in Title 50 of the Code of Federal Regulations in part 32 (50 CFR part 32). We regulate hunting and fishing on refuges to:

• Ensure compatibility with refuge purpose(s);

• Properly manage the fish and wildlife resource(s);

• Protect other refuge values;

• Ensure refuge visitor safety; and

• Provide opportunities for quality recreational and educational experiences.

On many refuges where we decide to allow hunting and fishing, our general policy of adopting regulations identical to State hunting and fishing regulations is adequate in meeting these objectives. On other refuges, we must supplement State regulations with more-restrictive Federal regulations to ensure that we meet our management responsibilities, as outlined in the “Statutory Authority” section. We issue refuge-specific hunting and sport fishing regulations when we open wildlife refuges to either migratory game bird hunting, upland game hunting, big game hunting, or sport fishing. These regulations list the wildlife species that you may hunt or those species subject to sport fishing, seasons, bag limits, methods of hunting or fishing, descriptions of areas open to hunting or fishing, and other provisions as appropriate. You may find previously issued refuge-specific regulations for hunting and fishing in 50 CFR part 32.

Statutory Authority

The National Wildlife Refuge System Administration Act (Administration Act) of 1966 (16 U.S.C. 668dd-668ee, as amended) and the Refuge Recreation Act (Recreation Act) of 1962 (16 U.S.C. 460k-460k-4) govern the administration and public use of national wildlife refuges.

Amendments enacted by the National Wildlife Refuge System Improvement Act of 1997 (Improvement Act) build upon the Administration Act in a manner that provides an “Organic Act” for the System similar to those that exist for other public Federal lands. The Improvement Act serves to ensure that we effectively manage the System as a national network of lands, waters, and interests for the protection and conservation of our Nation's wildlife resources. The Administration Act states first and foremost that we focus the mission of the System on conservation of fish, wildlife, and plant resources and their habitats. The Improvement Act requires the Secretary, before allowing a new use of a refuge, or before expanding, renewing, or extending an existing use of a refuge, to determine that the use is compatible. The Improvement Act established as the policy of the United States that wildlife-dependent recreation, when compatible, is a legitimate and appropriate public use of the System, through which the American public can develop an appreciation for fish and wildlife. The Act established six wildlife-dependent recreational uses, when compatible, as the priority general public uses of the System. These uses are: hunting, fishing, wildlife observation and photography, and environmental education and interpretation.

The Recreation Act authorizes the Secretary to administer areas within the System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or fishing. In many cases, we develop refuge-specific regulations to ensure the compatibility of the programs with the purpose(s) for which we established the refuge and the mission of the System. We ensure initial compliance with the Administration Act and the Recreation Act for hunting and sport fishing on newly acquired refuges through an interim determination of compatibility made at or near the time of acquisition. These regulations ensure that we make the determinations required by these acts prior to adding refuges to the lists of areas open to hunting and fishing in 50 CFR part 32. We ensure continued compliance by the development of comprehensive conservation plans, specific plans, and by annual review of hunting and sport fishing programs and regulations.

Response to Comments Received

In the August 14, 2003, Federal Register (68 FR 48583), we published a proposed rulemaking identifying the refuges and their proposed hunting and/or fishing programs and invited public comments. We reviewed and considered all comments following a 30-day comment period.

We received 1,541 comments on the proposed rule: 570 in support and 482 in opposition to the openings and 489 comments that were either considered to be anonymous (did not provide a full mailing address as stipulated in the proposed rule) or were received after the comment close date. Of the 1,052 comments considered, 1,031 came from individuals (558 in support and 473 in opposition), 15 represented nongovernment organizations (7 in support and 8 in opposition), 5 comments from States (all in support) and 1 comment from academia (in opposition).

We also received numerous comments unrelated to the content of the proposed rule (e.g., those dealing with such issues as trapping and general refuge management). We reviewed and analyzed the specific substantive comments and broke them into 12 general comments as follows:

Comment #1: A commenter suggested that the circumstances surrounding the possibility of opening these refuges to hunting dictate that, according to the National Environmental Policy Act (NEPA), the Service should have prepared an Environmental Impact Statement (EIS).

Response: We disagree with the statement that the Service should have prepared an EIS for the opening of these seven refuges to hunting and/or fishing. Each individual refuge, when making a determination as to whether or not to allow hunting and/or fishing, complies with NEPA (Categorical Exclusion, Environmental Assessment, or an Environmental Impact Statement) as appropriate when preparing an “opening package.” For each of the refuges included in this rulemaking, we prepared Environmental Assessments and determined that EISs were unnecessary. No changes were made as a result of this comment.

Comment #2: A commenter suggested the Service should have conducted biological assessments and inventories of flora and fauna as required by the (National Wildlife Refuge System Improvement Act of 1997) Improvement Act.

Response: The Improvement Act does not require a biological assessment of flora and fauna. However, the Improvement Act does require the Service to “monitor the status and trends of fish, wildlife, and plants in each refuge.” Before we establish a hunting or fishing program, the law requires we first determine compatibility with refuge purposes. All seven refuges at which hunting or fishing programs were proposed met this requirement. No changes were made as a result of this comment.

Comment #3: Many commenters said the Service should have considered public opinion polls containing statistics on public opposition to recreational and commercial killing of wildlife on national wildlife refuges. Many also felt that a trend is developing within the System placing the interests of sport hunters ahead of those of both the wildlife and nonhunting refuge visitors.

Response: The System has a long history of support by recreational hunters, including the creation of over 300 units through the use of Migratory Bird Conservation Act of 1919 (16 U.S.C. 715a-715r) using “Duck Stamp” funds. This traditional support has been recognized in subsequent statutory authority for the System, including most recently the Improvement Act amendment to the Administration Act. This law, which also provides the System its mission, clearly states that six wildlife-dependent recreational uses, including both hunting and fishing as well as wildlife observation and photography and environmental education and interpretation, when compatible, are the priority general public uses of the System. Furthermore, these uses are to receive “enhanced consideration over other general public uses in planning and management within the System * * *.” The Improvement Act also directs the Service to provide “increased opportunities for families to experience compatible wildlife-dependent recreation, particularly opportunities for parents and their children to safely engage in traditional outdoor activities, such as fishing and hunting * * *.” From this statutory language, Congress' intent is clear that the Service provide opportunities for compatible hunting and fishing on the System. Thus, while we carefully consider public comment and opinion in our rulemaking, we find this statutory direction unequivocal.

Commercial hunting and fishing are generally prohibited within the System. This rulemaking does not include commercial hunting and fishing. No changes were made as a result of this comment.

Comment #4: A commenter said the Service should have determined the detrimental effects of current predator management strategies to protect sensitive, threatened, and endangered species.

Response: This comment appears to be directed at refuge management generally and endangered species management specifically and not at the proposed rule. Specific to Endangered Species Act Section 7 Consultation, each refuge reviews its opening package to determine the impact of allowing hunting and/or fishing on any threatened or endangered species. We also comply with section 7 of the ESA when developing comprehensive conservation plans (CCPs) and step-down management plans for public use of refuges, such as hunting and fishing, and prior to implementing any new or revised public recreation program on a refuge as identified in 50 CFR 26.32. We made no changes as a result of this comment.

Comment #5: Many commenters stated that the majority of people who visit refuges do so to observe wildlife and enjoy nature, and not to hunt, fish, or trap.

Response: Within the System as a whole, this information is correct. However, in some locations, such as North Dakota, South Dakota, and Minnesota, more visitors participate in consumptive uses (hunting, fishing, and trapping) than nonconsumptive forms of wildlife-dependent recreation. However, as explained in response to comment #3 above, the Improvement Act clearly indicates that six forms of wildlife-dependent recreation, when compatible, are the priority general public uses of the System. The Act and associated House Report 105-106 also indicate there are no priorities between these six uses (again, when compatible), and does not indicate usage should be allocated based on the relative proportion of individuals participating in the activity. No changes were made as a result of this comment.

Comment #6: Several commenters suggested that the Service must conduct rigorous biological analyses of wildlife populations...before making any compatibility determinations about the commercial and/or recreational killing of wildlife on the refuges listed in the Notice. On a related topic, several commenters believe, in the past, the Service relied too heavily on lethal predator control as the primary method of addressing recovery of threatened and endangered species on refuges and has failed to address more serious threats to these species, including habitat degradation, pollution, and human impact.

Response: In addition to the information provided above in response to comment #2, many of the suggested biological analyses are conducted at the flyway level for migratory waterfowl and other game birds, with survey data going back decades. These population surveys detect trends in population numbers. If there is not sufficient information for a refuge manager, using his/her sound professional judgment to make an affirmative determination of compatibililty, the manager cannot allow the use. Similar to the response to comment #4, some of this comment appears to be directed at endangered and threatened species conservation, not these regulations. No changes were made as a result of these comments.

Comment #7: Concern was expressed that Service has strayed far from its own policy, which directs that “wildlife comes first” in the System. A related comment said a thorough discussion of proposed refuge habitat management practices is needed.

Response: The Administration Act authorizes the Service to allow uses of any refuge area as long as those uses are compatible; in fact, the Act specifically references hunting and fishing. Recent amendments to the Administration Act made by the Improvement Act establish wildlife-dependent recreational uses as priority general public uses and include hunting and fishing in the definition of those priority uses.

The principal focus of the Improvement Act was to clearly establish a wildlife conservation mission for the System and provide managers clear direction to make determinations regarding wildlife conservation and public uses within the units of the System. The Service manages national wildlife refuges primarily for wildlife conservation, habitat protection, and biological integrity, and allows uses only when compatible with the refuge purpose(s). In passing the Improvement Act, Congress reaffirmed the System was created to conserve fish, wildlife, plants, and their habitats and would facilitate opportunities for Americans to participate in compatible wildlife-dependent recreation, including hunting and/or fishing on System lands. The Service has adopted policies and regulations implementing the requirements of the Improvement Act with which refuge managers comply when considering hunting and fishing programs.

When lands and waters are under consideration for addition to the System, the refuge manager will make an interim compatibility determination on any existing wildlife-dependent recreational uses. The record of decision establishing the refuge must document the completion of such determinations. The results of these determinations are in effect until the completion of a CCP. During the development of the CCP and implementation of the NEPA process, we accept and incorporate public comments into the hunting and/or fishing decision on the refuge. When considering opening an existing refuge, the refuge manager similarly must make a determination that the proposal is compatible and complies with NEPA before taking any action. Refuge managers plan efforts well in advance of any proposed changes in order to obtain as much involvement from stakeholders as possible. This may include public meetings, workshops, news releases, and mailings to interested groups. The refuge manager consults with affected Service Regional Office, State fish and wildlife agencies, tribes, and the public before opening a refuge to hunting or fishing. This decision must also be consistent with the principles of sound wildlife management, applicable wildlife objectives, and otherwise be in the public interest. The refuge manager must submit a hunting and/or fishing plan that has undergone a public input process to the Regional Office for approval. The Regional Director approves the plan before the rulemaking process begins. These hunting and/or fishing plans contain:

1. Step-down hunting/fishing plans containing compatibility determinations. The plan is usually an appendix to the overall plan for providing visitor services on refuges, providing documentation of the hunting and/or fishing allowed on a refuge, including the relationship of hunting and/or fishing to other priority general public uses, refuge purpose(s), goals, objectives, and the System mission;

2. Appropriate NEPA documentation;

3. Appropriate decision documentation;

4. Section 7 ESA evaluation;

5. Copies of letters requesting State and, where appropriate, tribal involvement and the results of the request;

6. Draft news release; and

7. Outreach plan.

One of the elements of the CCP, specific to the habitat management practices comment, requires that each refuge develop goals for significant wildlife species or groups of species, habitat (including land protection needs), compatible wildlife-dependent recreation, other mandates (such as refuge-specific legislation, Executive orders, special area designations), and fish, wildlife and plant populations, as appropriate.

Comment #8: A commenter felt the Service should use the Improvement Act to restore this public land system to its original purpose of providing an inviolate sanctuary for wildlife.

Response: The term “inviolate sanctuary” is something of a misnomer. The Migratory Bird Conservation Act of 1929 authorized acquisition of refuges as “inviolate sanctuaries” where the birds could rest and reproduce in total security. In 1949, the “inviolate sanctuary” concept was modified by an amendment to the Migratory Bird Hunting and Conservation Stamp Act which permitted hunting on up to 25 percent of each inviolate refuge. Another amendment to the Migratory Bird Hunting and Conservation Stamp Act in 1958 increased the total area of an inviolate refuge that could be opened for hunting up to 40 percent. These parameters were enacted as part of the Administration Act. Whether an area is an “inviolate sanctuary” is a function of the mechanism of its creation. If a refuge was acquired as an inviolate sanctuary, only 40 percent of the refuge area may be opened at one time for hunting of migratory game birds. However, if the refuge was not acquired as an inviolate sanctuary, 100 percent of the refuge may be opened for hunting. The Fish and Wildlife Improvement Act of 1978 amended section 6 of the Administration Act to provide for the opening of all or any portion of an inviolate sanctuary to the taking of migratory birds if taking is determined to be “beneficial” to the species. Such opening of more than 40 percent to hunting is determined on a species-by-species basis. This amendment refers to inviolate sanctuaries created in the past or to be created in the future. It has no application to areas acquired for other management purposes. No changes were made as a result of this comment.

Comment #9: A commenter believes the Service needs to consider the need for assessment and mitigation of the impacts of recreational activities on native flora and fauna.

Response: See the response to the comment #7 above concerning “straying from the FWS policy.” No changes were made as a result of this comment.

Comment #10: One commenter asked us to clarify/change Coldwater National Wildlife Refuge relative to the prohibition of “any weapon” while fishing on the refuge. Does that include a fishing knife?

Response: With respect to knives, the legal definition of a weapon in the State of Mississippi is a knife longer than 3 inches (7.5 cm). We will modify the condition listed under Coldwater National Wildlife Refuge to read: D.4. We prohibit possession of any weapon while fishing on the refuge. This does not include fishing knives unless they are longer than 3 inches (7.5 cm).

Comment #11: One commenter asked if we could allow lead shot no larger than #6 shot with a maximum of 25 shells carried in the field at one time on Northern Tallgrass Prairie National Wildlife Refuge under Upland Game Hunting.

Response: 50 CFR 32.2(k) prohibits possession of lead shot unless hunting for turkey and deer (where we allow those activities). The refuge in question, Northern Tallgrass Prairie in the States of Minnesota and Iowa, under Upland Game Hunting, does not have turkey hunting; therefore, we already prohibit lead shot.

Comment #12: One commenter questioned the economic analysis. “It is estimated that the consumer surplus from the proposed expansion in hunting and sport fishing opportunities is $199,614. However, this estimate is seriously flawed, since it includes only the gains from increased hunting and fishing opportunities, but excludes the losses in consumer surplus of non-consumptive users due to a decline in wildlife watching opportunities. Before any rule changes are considered, the U.S. Fish and Wildlife Service should conduct a new economic analysis of changes to the consumer surplus, which takes all relevant factors, including changes in non-consumptive uses, into consideration”

Response: Increased hunting and fishing opportunities may impact wildlife watching opportunities in two ways. First, increased hunting would decrease the wildlife population that is being hunted (e.g., deer, migratory birds, etc.). As such, the quality of a wildlife watching activity may slightly decline because a visitor may be less likely to view wildlife. However, we would expect this impact to only be a small decrease to consumer surplus. Second, some wildlife watching visitors may choose not to visit during hunting season. Instead, they may choose to visit before or after the hunting season or choose to visit a different area for their wildlife watching activities. Again, we would expect this impact to be a small decrease to consumer surplus because the quality of the visit may be impacted. If the visitor chooses to no longer view wildlife at all, then there would be a loss of consumer surplus and visitor expenditures to the region. While these are valid impacts to wildlife watching opportunities, we do not have the data to properly quantify them. For example, we do not know how a slight change to wildlife populations will influence wildlife watching behavior. Because this information is not available, and we believe these shifts in visitation to be small, we are unable to conduct an economic analysis that addresses this concern.

Other changes from the proposed rule were as follows: We clarified the issue of only allowing specific breeds of dogs on Grand Cote National Wildlife Refuge and Big Branch Marsh National Wildlife Refuge (§ 32.37), in the State of Louisiana. We also made several administrative changes for clarity under North Platte and Boyer Chute National Wildlife Refuges (§ 32.46) in the State of Nebraska.

Effective Date

This rule is effective upon publication in the Federal Register. We have determined that any further delay in implementing these refuge-specific hunting and sport fishing regulations would not be in the public interest, in that a delay would hinder the effective planning and administration of the hunting and fishing programs. We provided a 30-day comment period for the August 14, 2003, proposed rule. An additional delay would jeopardize holding the hunting and/or fishing programs this year or shorten their duration and thereby lessen the management effectiveness of this regulation. This rule does not impact the public generally in terms of requiring lead time for compliance. Rather it relieves restrictions in that it allow activities on refuges that we would otherwise prohibit. Therefore, we find good cause under 5 U.S.C. 553(d)(3) to make this rule effective upon publication.

New Hunting and Fishing Programs

In preparation for opening additional refuges to hunting and fishing, or to initiating new hunting or fishing programs on refuges already open, we document appropriate compliance with the National Environmental Policy Act (NEPA) through an Environmental Assessment with a finding of No Significant Impact, an Environmental Impact Statement with a Record of Decision, or determine and document that the action qualifies for a Categorical Exclusion. We also conduct and document internal consultations under section 7 of the Endangered Species Act, and coordinate with the State(s), and if appropriate, Tribe(s) in or near the refuge.

Upon review of these documents, we have determined that the opening of these National Wildlife Refuges to hunting and/or fishing is compatible with the purpose of the refuge and the mission of the system, and not inconsistent with applicable State laws. A copy of the compatibility determinations for each respective refuge is available upon request from the Regional Office noted under the heading “Available Information for Specific Refuges.”

We allow the following wildlife-dependent recreational activities:

Refuge | State | Migratory bird hunting | Upland game hunting | Big game hunting | Sport fishing
Wapanocca | Arkansas | X |  | X |
Grand Cote | Louisiana | X | X | X |
Northern Tallgrass Prairie | Minnesota/Iowa | X | X | X |
Boyer Chute | Nebraska | X |  | X |
DeSoto | Iowa |  | X |  |
Big Branch Marsh | Louisiana |  | X |  |
North Platte | Nebraska |  | X | X |
Coldwater | Mississippi |  |  |  | X
Bandon Marsh | Oregon |  |  |  | X
Rappahannock River Valley | Virginia |  |  |  | X

Lands acquired as “waterfowl production areas,” which we generally manage as part of Wetland Management Districts, are open to the hunting of migratory game birds, upland game, big game, and sport fishing subject to the provisions of State law and regulations (see 50 CFR 32.1 and 32.4). This year we are adding Detroit Lakes Wetland Management District in Minnesota to the list of refuges open for all four of these activities.

We are correcting an administrative error in 50 CFR part 32 that occurred with regard to Bandon Marsh National Wildlife Refuge in Oregon. It has come to our attention that the CFR does not indicate that the refuge is open to sport fishing. We opened the refuge to sport fishing in 1986 (55 FR 30655, 30663; August 28, 1986). It appears that a clerical error was made when the rules adopted in 1986 were being published in the subsequent edition of the CFR. We are correcting that error and part 32 will now reflect that the refuge is open to sport fishing. Coldwater National Wildlife Refuge was part of Tallahatchie National Wildlife Refuge (both in Mississippi) and is an area of the System that we opened by reason of its having been included in Tallahatchie's fishing plan (61 FR 45364, August 29, 1996). It has become a separate unit this year, thus we are including a separate listing that Coldwater National Wildlife Refuge is open to fishing only.

Upon publication of this document, the 2003-2004 hunting and fishing season will result in a net of three national wildlife refuges added to fishing and four national wildlife refuges added to hunting. This will bring our cumulative total of national wildlife refuges open to hunting to 315 and refuges open to fishing to 274.

We incorporate this regulation into 50 CFR part 32. Part 32 contains general provisions and refuge-specific regulations for hunting and sport fishing on national wildlife refuges.

Regulatory Planning and Review

In accordance with the criteria in Executive Order 12866, the Service asserts that this rule is not a significant regulatory action. The Office of Management and Budget (OMB) makes the final determination under Executive Order 12866.

a. This rule will not have an annual economic effect of $100 million or adversely affect an economic sector, productivity, jobs, the environment, or other units of the government. A cost-benefit and full economic analysis is not required. The purpose of this rule is to add seven refuges to the list of refuges that have hunting and/or fishing activities and to increase the type of activities at three other refuges. The refuges are located in the States of Arkansas, Iowa, Louisiana, Minnesota, Mississippi, Nebraska, Oregon, and Virginia. Fishing and hunting are two of the wildlife-dependent uses of national wildlife refuges that Congress recognized as legitimate and appropriate and directed us to facilitate, subject to such restrictions or regulations as may be necessary to ensure their compatibility with the purpose(s) and mission of each refuge. Many of the 542 existing national wildlife refuges already have programs where we allow fishing and hunting. Not all refuges have the necessary resources and landscape that would make fishing and hunting opportunities available to the public. By opening these refuges to new activities, we have determined that we can make quality experiences available to the public. This rule establishes hunting and/or fishing programs at the following refuges: Wapanocca National Wildlife Refuge in Arkansas, Grand Cote National Wildlife Refuge in Louisiana, Northern Tallgrass Prairie National Wildlife Refuge in Minnesota and Iowa, Boyer Chute and North Platte National Wildlife Refuges in Nebraska, DeSoto National Wildlife Refuge in Iowa, Big Branch Marsh National Wildlife Refuge in Louisiana, Coldwater National Wildlife Refuge in Mississippi, Bandon Marsh National Wildlife Refuge in Oregon, and Rappahannock River Valley National Wildlife Refuge in Virginia. We present impacts in 2002 real dollars.

For this analysis, we do not expect changes to recreational visits at the Detroit Lakes Wetland Management District, Bandon Marsh National Wildlife Refuge, or Coldwater National Wildlife Refuge. All Wetland Management Districts are open to hunting and fishing activities until closed, and this rulemaking reflects that Detroit Lakes Wetland Management District is open to hunting of migratory game birds, upland game, big game, and sport fishing. However, we do not expect any change in visitation rates at this management district because recreationists currently have the option to participate in these activities at Detroit Lakes. We expect no visitation changes at Bandon Marsh National Wildlife Refuge. The rule corrects an administrative error, but does not change current activities at the refuge since the refuge has been open to fishing since 1986. Also, we expect no visitation changes at Coldwater National Wildlife Refuge. Coldwater was part of Tallahatchie National Wildlife Refuge (also in the State of Mississippi) and covered by its fishing plan. Therefore, we would expect any previous fishing activity in the Coldwater section of Tallahatchie to continue without change.

Following a best-case scenario, if the refuges establishing new fishing and hunting programs were a pure addition to the current supply of such activities, it would mean a consumer surplus of approximately $200,000 annually and an estimated increase of 1,000 user days of hunting and 2,082 user days of fishing (Table 1). Consequently, this rule will have a small, measurable, beneficial economic impact on the U.S. economy.

Table 1.—Estimated Changes in Consumer Surplus From Additional Fishing and Hunting Opportunities in 2003
[In days]
Refuge | Current visitation (FY02) | Additional fishing | Additional hunting | Additional fishing and hunting combined
Wapanocca | 844 |  | 70 | 70
Grand Cote | 2,500 |  | 1,000 | 1,000
Northern Tallgrass Prairie |  |  | 300 | 300
Boyer Chute | 3,147 |  | 175 | 175
DeSoto | 14,967 |  | 25 | 25
Big Branch Marsh | 5,975 |  | 500 | 500
North Platte |  |  | 12 | 12
Bandon Marsh | 100 |  |  | 0
Coldwater |  |  |  | 0
Rappahannock River | 45 | 1,000 |  | 1,000
Total Days per Year | 27,578 | 1,000 | 2,082 | 3,082
Consumer Surplus per Day |  | $62.16 | $66.02 |
Change in Total Consumer Surplus |  | $62,160 | $137,454 | $199,614
Note: All estimates are stated in 2002 real dollars.

b. This rule will not create inconsistencies with other agencies' actions. This action pertains solely to the management of the System. The fishing and hunting activities located on national wildlife refuges account for approximately 1 percent of the available supply in the United States. Any small, incremental change in the supply of fishing and hunting opportunities will not measurably impact any other agency's existing programs.

c. This rule will not materially affect entitlements, grants, user fees, loan programs, or the rights and obligations of their recipients. This rule does not affect entitlement programs. There are no grants or other Federal assistance programs associated with public use of national wildlife refuges.

d. This rule will not raise novel legal or policy issues. This rule opens seven additional refuges for fishing and hunting activities and increases the activities available at three other refuges. This rule continues the practice of allowing recreational public use of national wildlife refuges. Many refuges in the System currently have opportunities for the public to hunt and fish on refuge lands.

Regulatory Flexibility Act

We certify that this rule will not have a significant economic effect on a substantial number of small entities as defined under the Regulatory Flexibility Act (5 U.S.C. 601 et seq.). A Regulatory Flexibility Analysis is not required. Accordingly, a Small Entity Compliance Guide is not required.

This rule does not increase the number of recreation types allowed in the System but establishes new or additional hunting and/or fishing programs on 10 refuges. As a result, opportunities for wildlife-dependent recreation on national wildlife refuges will increase. The changes in the amount of permitted use are likely to increase visitor activity on these national wildlife refuges.

For purposes of analysis, we will assume that any increase in refuge visitation is a pure addition to the supply of the available activity. This will result in a best-case scenario, and we expect to overstate the benefits to local businesses. The latest information on the distances traveled for fishing and hunting activities indicates that more than 80 percent of the participants travel less than 100 miles from home to engage in the activity. This indicates that participants will spend travel-related expenditures in their local economies. Since participation is scattered across the country, many small businesses benefit. The 2001 National Survey of Fishing, Hunting, and Wildlife Associated Recreation identifies expenditures for food and lodging, transportation, and other incidental expenses. Using the average expenditures for these categories with the expected maximum additional participation on the System as a result of this rule yields the following estimates (Table 2) compared to total business activity for these sectors.

Table 2.—Estimation of the Additional Expenditures With an Increase of Activities in Three Refuges and the Opening of Seven Refuges to Fishing and/or Hunting for 2003-2004
| U.S. total expenditures in 2001 (in billions) | Average expenditures per day | Current refuge expenditures w/o duplication (FY2002) (in millions) | Possible additional refuge expenditures
Anglers:
Total Days Spent (in millions) | $557 |  | $5.9 | $1,000
Total Expenditures | 36.2 | $465 | 386.3 | 64,937
Trip Related | 14.9 | 27 | 158.9 | 26,710
Food and Lodging | 6.0 | 11 | 63.8 | 10,718
Transportation | 3.6 | 6 | 38.1 | 6,407
Other | 5.3 | 10 | 57.0 | 9,585
Hunters:
Total Days Spent (in millions) | 228 |  | 2.0 | 2,082
Total Expenditures | 20.6 | 92 | 181.0 | 190,878
Trip Related | 5.3 | 23 | 46.1 | 48,642
Food and Lodging | 2.4 | 11 | 21.5 | 22,689
Transportation | 1.8 | 8 | 15.7 | 16,571
Other | 1.0 | 5 | 8.9 | 9,383
Note: All estimates are in 2002 real dollars.

Using a national impact multiplier for hunting activities (2.73) derived from the report “Economic Importance of Hunting in America” and a national impact multiplier for sportfishing activities (2.79) from the report “Sportfishing in America” for the estimated increase in direct expenditures yields a total economic impact of approximately 257,000 (Southwick Associates, Inc., 2003).

A large percentage of the retail trade establishments in the majority of affected counties qualifies as small businesses. With the small increase in overall spending anticipated from this rule, it is unlikely that a substantial number of small entities will have more than a small benefit from the increased recreationist spending near the affected refuges; none are likely to have any adverse impact.

Table 3.—Comparative Expenditures for Retail Trade Associated With Additional Refuge Visitation for 2003
Refuge/county(ies) | Retail trade in 1997 (2002 dollars) (in millions) | Estimated maximum addition from new refuge | Addition as a % of total | Total number retail establish | Establish. with <10 emp.
Wapannocca, Crittenden, AR | $24,260 | $6,440 | 0.00003 | 262 | 171
Grand Cote, Avoyelles, LA | 238 | 92,000 | 0.39 | 169 | 129
Northern Tallgrass Prairie, Rock, MN | 96 | 27,600 | .029 | 62 | 39
Boyer Chute, Washington, NE | 262 | 16,100 | .006 | 99 | 64
DeSoto, Washington, NE | 262 | 1,150 | .0004 | 99 | 64
Harrison, IA | 187 | 1,150 | .0006 | 101 | 76
Big Branch Marsh, St. Tammany, LA | 1,694 | 46,000 | .003 | 1068 | 713
North Platte, Scotts Bluff, NE | 439 | 1,104 | .0003 | 312 | 220
Rappahannock River, Northumberland, VA | 5,492 | 65,000 | .001 | 54 | 45

Many small businesses may benefit from some increased wildlife refuge visitation. We expect that the incremental recreational opportunities will be scattered, and so we do not expect that the rule will have a significant economic effect (benefit) on a substantial number of small entities in any region or nationally.

Small Business Regulatory Enforcement Fairness Act

The rule is not a major rule under 5 U.S.C. 804(2), the Small Business Regulatory Enforcement Fairness Act. We anticipate no significant employment or small business effects. This rule:

a. Does not have an annual effect on the economy of $100 million or more. The additional fishing and hunting opportunities at the 10 refuges would generate angler and hunter expenditures with an economic impact estimated at $257,000 per year (2002 dollars). Consequently, the maximum benefit of this rule for businesses, both small and large, would not be sufficient to make this a major rule. The impact would be scattered across the country and would most likely not be significant in any local area.

b. Will not cause a major increase in costs or prices for consumers, individual industries, Federal, State, or local government agencies, or geographic regions. This rule will have only a slight effect on the costs of hunting and fishing opportunities for Americans. Under the assumption that any additional hunting and fishing opportunities would be quality opportunities, we would attract participants to the refuge. If the refuge were closer to the participants' residences, then a reduction in travel costs would occur and benefit the participants. The Service does not have information to quantify this reduction in travel cost but assumes that, since most people travel less than 100 miles to hunt and fish, the reduced travel cost would be small for the additional days of hunting and fishing generated by this rule. We do not expect this rule to affect the supply or demand for fishing and hunting opportunities in the United States and; therefore, it should not affect prices for fishing and hunting equipment and supplies, or the retailers that sell equipment.

c. Does not have significant adverse effects on competition, employment, investment, productivity, innovation, or the ability of United States-based enterprises to compete with foreign-based enterprises. Refuges that establish hunting and fishing programs may hire additional staff from the local community to assist with the programs, but this would not be a significant increase, because only seven refuges are adding new programs and only three refuges are increasing programs by this rule.

Unfunded Mandates Reform Act

Since this rule applies to public use of federally owned and managed refuges, it does not impose an unfunded mandate on State, local, or Tribal governments or the private sector of more than $100 million per year. The rule does not have a significant or unique effect on State, local, or Tribal governments or the private sector. A statement containing the information required by the Unfunded Mandates Reform Act (2 U.S.C. 1531 et seq.) is not required.

Takings (Executive Order 12630)

In accordance with Executive Order 12630, the rule does not have significant takings implications. This regulation will affect only visitors at national wildlife refuges and describe what they can do while they are on a refuge.

Federalism (Executive Order 13132)

As discussed in the Regulatory Planning and Review and Unfunded Mandates Reform Act sections above, this rule does not have sufficient Federalism implications to warrant the preparation of a Federalism Assessment under Executive Order 13132. In preparing this rule, we worked with State governments, and our programs are consistent to the State regulations to the degree practicable.

Civil Justice Reform (Executive Order 12988)

In accordance with Executive Order 12988, the Office of the Solicitor has determined that the rule does not unduly burden the judicial system and that it meets the requirements of sections 3(a) and 3(b)(2) of the Order. The regulation will clarify established regulations and result in better understanding of the regulations by refuge visitors.

Energy Supply, Distribution or Use (Executive Order 13211)

On May 18, 2001, the President issued Executive Order 13211 on regulations that significantly affect energy supply, distribution, and use. Executive Order 13211 requires agencies to prepare Statements of Energy Effects when undertaking certain actions. Because this rule opens seven refuges to hunting and/or sport fishing programs and increases activities at three others, it is not a significant regulatory action under Executive Order 12866 and is not expected to significantly affect energy supplies, distribution, and use. Therefore, this action is a not a significant energy action and no Statement of Energy Effects is required.

Consultation and Coordination With Indian Tribal Governments (Executive Order 13175)

In accordance with Executive Order 13175, we have evaluated possible effects on federally recognized Indian tribes and have determined that there are no effects. We coordinate recreational use on national wildlife refuges with Tribal governments having adjoining or overlapping jurisdiction before we propose the regulations. This regulation is consistent with and not less restrictive than Tribal reservation rules.

Paperwork Reduction Act

This regulation does not contain any information collection requirements other than those already approved by the OMB under the Paperwork Reduction Act (44 U.S.C. 3501 et seq.) (OMB Control Number is 1018-0102). See 50 CFR 25.23 for information concerning that approval. An agency may not conduct or sponsor and a person is not required to respond to a collection of information unless it displays a currently valid OMB control number.

Endangered Species Act Section 7 Consultation

We reviewed the changes in hunting and fishing regulations herein with regard to section 7 of the Endangered Species Act of 1973 (16 U.S.C. 1531-1544, as amended) (ESA). For the national wildlife refuges opening for hunting and/or fishing we have determined that DeSoto National Wildlife Refuge, Wapanocca National Wildlife Refuge, Northern Tallgrass Prairie National Wildlife Refuge, and Grand Cote National Wildlife Refuge (for Louisiana black bear) will not likely adversely affect any endangered or threatened species or designated critical habitat, and Grand Cote National Wildlife Refuge (for bald eagle), North Platte National Wildlife Refuge, Big Branch Marsh National Wildlife Refuge, Rappahannock River Valley National Wildlife Refuge, and Boyer Chute National Wildlife Refuge will not affect any endangered or threatened species or designated critical habitat.

We also comply with section 7 of the ESA when developing CCPs and step-down management plans for public use of refuges, and prior to implementing any new or revised public recreation program on a refuge as identified in 50 CFR 26.32. We also make determinations when required by the ESA before the addition of a refuge to the lists of areas open to hunting or fishing as contained in 50 CFR 32.7.

National Environmental Policy Act

Prior to submitting these openings for publication in this rule, the Service complied with the National Environmental Policy Act of 1969 (42 U.S.C. 4332(C)) and 516 DM 6, Appendix 1 for each of the openings or program additions during the preparation of individual refuge hunting or fishing decision documents.

We analyzed this rule in accordance with the criteria of the NEPA. A categorical exclusion from NEPA documentation applies to this amendment of refuge-specific hunting and fishing regulations since it is technical and procedural in nature and we otherwise comply with NEPA at the specific refuge units.

Prior to the addition of a refuge to the list of areas open to hunting and fishing in 50 CFR part 32, we develop specific management plans for the affected refuges. We incorporate these refuge hunting and fishing activities in refuge CCPs and/or other step-down management plans, pursuant to our refuge planning guidance in 602 FW 1, 3, and 4. We prepare CCPs and step-down plans in compliance with section 102(2)(C) of NEPA, and the Council on Environmental Quality's regulations for implementing NEPA in 40 CFR parts 1500-1508. We invite the affected public to participate in the review, development, and implementation of these plans.

Available Information for Specific Refuges

Individual refuge headquarters retain information regarding public use programs and the conditions that apply to their specific programs and maps of their respective areas. You may also obtain information from the Regional Offices at the addresses listed below:

Region 1—California, Hawaii, Idaho, Nevada, Oregon, and Washington. Regional Chief, National Wildlife Refuge System, U.S. Fish and Wildlife Service, Eastside Federal Complex, 911 N.E. 11th Avenue, Portland, Oregon 97232-4181; Telephone (503) 231-6214.

Region 2—Arizona, New Mexico, Oklahoma, and Texas. Regional Chief, National Wildlife Refuge System, U.S. Fish and Wildlife Service, PO Box 1306, 500 Gold Avenue, Albuquerque, New Mexico 87103; Telephone (505) 248-6804.

Region 3—Illinois, Indiana, Iowa, Michigan, Minnesota, Missouri, Ohio, and Wisconsin. Regional Chief, National Wildlife Refuge System, U.S. Fish and Wildlife Service, 1 Federal Drive, Federal Building, Fort Snelling, Minnesota 55111; Telephone (612)-713-5400.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, Georgia 30345; Telephone (404) 679-7154.

Region 5—Connecticut, Delaware, Maine, Maryland, Massachusetts, New Hampshire, New Jersey, New York, Pennsylvania, Rhode Island, Vermont, Virginia, and West Virginia. Regional Chief, National Wildlife Refuge System, U.S. Fish and Wildlife Service, 300 Westgate Center Drive, Hadley, Massachusetts 01035-9589; Telephone (413) 253-8302.

Region 6—Colorado, Kansas, Montana, Nebraska, North Dakota, South Dakota, Utah, and Wyoming. Regional Chief, National Wildlife Refuge System, U.S. Fish and Wildlife Service, 134 Union Blvd., Lakewood, Colorado 80228; Telephone (303) 236-8145.

Region 7—Alaska. Regional Chief, National Wildlife Refuge System, U.S. Fish and Wildlife Service, 1011 E. Tudor Rd., Anchorage, Alaska 99503; Telephone (907) 786-3354.

Primary Author

Leslie A. Marler, Management Analyst, Division of Conservation Planning and Policy, National Wildlife Refuge System, U.S. Fish and Wildlife Service, Arlington, Virginia 22203, is the primary author of this rulemaking document.

List of Subjects in 50 CFR Part 32

Fishing, Hunting, Reporting and recordkeeping requirements, Wildlife, Wildlife refuges.

For the reasons set forth in the preamble, we amend Title 50, Chapter I, subchapter C of the Code of Federal Regulations as follows:

PART 32—[AMENDED]

1. The authority citation for part 32 continues to read as follows:

Authority: 5 U.S.C. 301; 16 U.S.C. 460k, 664, 668dd-668ee, and 715i.

2. In § 32.7 “What refuge units are open to hunting and/or fishing?” by:

a. Alphabetically adding Detroit Lakes Wetland Management District in the State of Minnesota;

b. Alphabetically adding Northern Tallgrass Prairie National Wildlife Refuge in the States of Minnesota and Iowa.

c. Alphabetically adding Coldwater National Wildlife Refuge in the State of Mississippi;

3. In § 32.23 Arkansas by adding the text of paragraphs A. and C. of Wapanocca National Wildlife Refuge to read as follows:

§ 32.23 Arkansas.

* * * * *

Wapanocca National Wildlife Refuge

A. Hunting of Migratory Game Birds. We allow hunting of snow geese on designated areas of the refuge in accordance with State regulations subject to the following conditions:

1. We require refuge hunting permits. The permits are nontransferable and anyone on refuge land in possession of hunting equipment must sign and carry them at all times.

2. We provide annual season dates on the hunt brochure/permit.

3. You must sign in prior to the hunt and sign out after the hunt at the Hunter Information Station.

4. You must adhere to all public use special conditions and regulations on the annual hunt brochure/permit.

* * * * *

C. Big Game Hunting. We allow hunting of white-tailed deer on designated areas of the refuge in accordance with State regulations subject to the following conditions:

1. Conditions A1 and A4 apply.

2. We prohibit hunting from or within 50 yards (45 m) of graveled roads and within 150 yards (135 m) of refuge buildings.

3. We allow archery/crossbow hunting for deer. We specify annual season dates and bag limits on the hunting permits.

4. Immediately record the deer zone 640 on the hunter's license and later on official check station records upon harvest of a deer.

5. You must sign in prior to the hunt and sign out after the hunt at the Hunter Information Station. You must check harvested deer at this location.

6. We prohibit dogs.

7. We allow only single-person portable tree stands. You may place tree stands on the refuge 2 days before the hunt but must remove them within 2 days after the hunt. You must permanently affix the owner's name and address on stands left on the refuge.

8. We prohibit possession of or marking trails with materials other than biodegradable paper/flagging or reflective tape/tacks.

9. We prohibit ATVs.

* * * * *

4. In § 32.34 Iowa by:

a. Adding the text of paragraph B. of DeSoto National Wildlife Refuge; and

b. Adding Northern Tallgrass Prairie National Wildlife Refuge to read as follows:

§ 32.34 Iowa.

* * * * *

DeSoto National Wildlife Refuge

* * * * *

B. Upland Game Hunting. We allow hunting of ring-necked pheasant and turkey on designated areas of the refuge in accordance with the States of Iowa and Nebraska regulations subject to the following condition: We require a refuge permit.

* * * * *

Northern Tallgrass Prairie National Wildlife Refuge

Refer to § 32.42 Minnesota for regulations.

* * * * *

5. In § 32.37 Louisiana by:

a. Adding the text of paragraph B. of Big Branch Marsh National Wildlife Refuge; and

b. Adding the text of paragraphs A., B., and C. of Grand Cote National Wildlife Refuge to read as follows:

§ 32.37 Louisiana.

* * * * *

Big Branch Marsh National Wildlife Refuge

* * * * *

B. Upland Game Hunting. We allow hunting of squirrel, rabbit, snipe, woodcock, quail, gallinule, rail, and nutria subject to the following conditions:

1. We allow hunting during the open State season using only approved nontoxic shot size #4 or smaller.

2. You may use dogs for squirrel and rabbit after the close of the State gun deer season only.

3. You may only use dogs to locate, point, and retrieve when hunting for snipe, woodcock, and quail.

4. You must possess and carry a valid refuge hunt permit.

5. We prohibit air-thrust boats, motorized pirogues, mud boats, and air-cooled propulsion engines on the refuge.

6. Youth hunters 15 years of age and under must successfully complete a State-approved hunter education course. While hunting, each youth must possess and carry a card or certificate of completion. One adult 21 years of age or older must supervise each youth hunter. For upland game hunts, one adult may supervise two youths.

7. You must unload and encase or dismantle firearms carried in vehicles or boats.

8. We open the refuge during daylight hours only.

9. We prohibit possession of buckshot, slugs, rifles, or rifle ammunition.

10. We prohibit hunting within 200 feet (60 m) of any road (including refuge roads), residence, or designated public facilities.

11. We prohibit possession of lead shot during all refuge hunts.

* * * * *

Grand Cote National Wildlife Refuge

A. Hunting of Migratory Game Birds. We allow hunting of ducks, geese, coots, mourning dove, and woodcock on designated areas of the refuge, as shown on refuge hunting brochure map, subject to the following conditions:

1. We require hunters 16 years of age and older to purchase and carry a signed $12.50 refuge hunt/fish/ATV permit.

2. We allow public access from 5 a.m. to 1 hour after legal sunset.

3. An adult 21 years of age or older must accompany (within sight of and in normal voice contact with) youth hunters 15 years of age and under. We require youth hunters to possess and carry proof of completion of an approved Hunter Safety Course. Each adult can supervise one youth hunter during deer hunts and not more that two youths during all other hunts.

4. We require hunters to enter and exit the refuge from designated parking lots only.

5. We require hunters to check in/out at a designated check station.

6. We prohibit camping or parking overnight on the refuge.

7. We prohibit discharge of firearms except when hunting.

8. We prohibit marking of trails with nonbiodegradable flagging tape.

9. We allow use of ATVs on designated trails from the third Saturday in September to the last day of the State rabbit season. An ATV is an off-road vehicle with factory specifications not to exceed the following: weight—750 lbs. (337.5 kg), length—85 inches (212.5 cm), and width—48 inches (120 cm). We restrict ATV tires to those no larger than 25 x 12 with a maximum 1-inch (2.5 cm) lug height and a maximum allowable tire pressure of 7 psi as indicated on the tire by the manufacturer.

10. We prohibit horses and mules.

11. We prohibit saws, saw blades, and/or machetes while on the refuge.

12. We prohibit hunting within 100 feet (30 m) of any designated road, ATV or hiking trail, or refuge facility.

13. We prohibit transportation of loaded weapons on an ATV.

14. We prohibit blocking of gates or trails with vehicles or ATVs.

15. We prohibit ATVs on trails/roads not specifically designated by signs for ATV use.

16. We allow only nonmotorized boats.

17. You may take raccoon, feral hog, beaver, nutria, and coyote incidental to migratory bird hunting, upland game hunting, and big game hunting with weapons legal for that hunt.

18. We allow waterfowl (ducks, geese, coots) hunting on Wednesdays and Saturdays until 12 a.m. (noon) only during the Statewide duck season.

19. We allow use of shotguns during designated hunts only.

20. We prohibit the construction or use of permanent blinds.

21. You must remove all decoys, portable blinds, and boats daily.

22. We have a youth waterfowl hunt in the Crawfish Pond Unit during the Statewide duck season. This will be a quota-type hunt, and hunters will apply on an index or post card with their name, address, phone number, and dates of the hunt for which they are applying. When the State sets the duck season, we will set the dates of the hunt.

23. We allow hunting of mourning doves incidentally by waterfowl hunters only on days open to waterfowl hunting.

24. We only allow dogs to locate, point, and retrieve when hunting for migratory game birds.

25. We prohibit frogging.

B. Upland Game Hunting. We allow hunting of rabbit, raccoon, feral hog, beaver, nutria, and coyote on designated areas of the refuge, as shown on refuge hunting brochure map, subject to the following conditions:

1. Conditions A1 through A17 and A25 apply.

2. We allow rabbit hunting from December 1 until the end of the Statewide season.

3. We allow use of shotguns during designated hunts only.

4. We allow rabbit dogs only after the close of the State deer rifle season.

5. We require you to collar all dogs with owner's name and phone number.

C. Big Game Hunting. We allow hunting of white-tailed deer on designated areas of the refuge as shown on refuge hunting brochure map subject to the following conditions:

1. Conditions A1 through A17 and A25 apply.

2. We allow archery-only deer hunting on the refuge from October 1 through October 31 in the Gremillion Unit, Island of the Owls Unit, and Concrete Bridge Unit.

3. You must have hunter's name, address, and phone number permanently attached to all deer stands. We allow only portable deer stands that hunters must take down daily.

4. We prohibit hunters to drive deer or use pursuit dogs. We prohibit use of dogs to trail wounded deer.

5. We allow only archery equipment during designated seasons.

6. We require hunters to complete and possess and carry proof of completion of the International Bowhunters' Safety Course.

7. You may kill one deer of either sex per day during the deer season.

* * * * *

6. In § 32.42 Minnesota by:

a. Adding Detroit Lakes Wetland Management District; and

b. Adding Northern Tallgrass Prairie National Wildlife Refuge to read as follows:

§ 32.42 Minnesota.

* * * * *

Detroit Lakes Wetland Management District

A. Hunting of Migratory Game Birds. We allow hunting of migratory game birds throughout the district in accordance with State regulations, except that we prohibit hunting on the Headquarters Waterfowl Production Area (WPA) in Becker County, the Hitterdal WPA in Clay County, and the McIntosh WPA in Polk County. The following conditions apply:

1. We prohibit the use of motorized boats.

2. You must remove boats, decoys, blinds, and blind materials brought onto WPAs following each day's hunt.

3. We allow the use of hunting dogs, provided the dog is under the immediate control of the hunter at all times.

B. Upland Game Hunting. We allow upland game hunting in accordance with State regulations throughout the district, except that we allow no hunting on the Headquarters Waterfowl Production Area (WPA) in Becker county, the Hitterdal WPA in Clay county, and the McIntosh WPA in Polk county. The following condition applies: We allow the use of hunting dogs, provided the dog is under the immediate control of the hunter at all times.

C. Big Game Hunting. We allow big game hunting in accordance with State regulations throughout the district, except that we allow no hunting on the Headquarters Waterfowl Production Area (WPA) in Becker county, the Hitterdal WPA in Clay county, and the McIntosh WPA in Polk county. The following conditions apply:

1. We prohibit the construction or use of permanent blinds, platforms, or ladders.

2. You must remove all portable hunting stands from the area at the end of each day's hunt.

D. Sport Fishing. We allow fishing in accordance with State regulations throughout the district subject to the following condition: We prohibit the use of motorized boats.

* * * * *

Northern Tallgrass Prairie National Wildlife Refuge

A. Hunting of Migratory Game Birds. We allow hunting of migratory game birds on designated areas in accordance with State regulations subject to the following conditions:

1. You must remove boats, decoys, portable or temporary blinds, materials brought onto the refuge, and other personal property at the end of each day's hunt.

2. We prohibit the construction or use of permanent blinds, stands, or scaffolds.

3. We prohibit the use of motorized watercraft.

B. Upland Game Hunting. We allow hunting of upland game on designated areas in accordance with State regulations subject to the following conditions:

1. Hunters may possess only approved nontoxic shot while in the field.

2. We prohibit the use of dogs for hunting furbearers.

3. Hunters may take weasel, coyote, gopher, crow, and all other species for which there is no closed season only during a State-designated open season for other upland game species.

C. Big Game Hunting. We allow hunting of big game in accordance with State regulations subject to the following conditions:

1. We prohibit the construction or use of permanent blinds, stands, or scaffolds.

2. You must remove all temporary blinds, stands, and scaffolds at the end of each day's hunt.

3. We prohibit the use of motorized watercraft.

* * * * *

7. In § 32.43 Mississippi by adding Coldwater National Wildlife Refuge to read as follows:

§ 32.43 Mississippi.

* * * * *

Coldwater National Wildlife Refuge

A. Hunting of Migratory Game Birds. [Reserved]

B. Upland Game Hunting. [Reserved]

C. Big Game Hunting. [Reserved]

D. Sport Fishing. We allow fishing on designated areas of the refuge in accordance with State regulations subject to the following conditions:

1. All persons fishing who are 16 years of age and older must carry a State license on the refuge. You must have a signed refuge fishing permit in your possession when fishing on the refuge. You may obtain permits at North Mississippi Refuges Complex Headquarters, 2776 Sunset Drive, Grenada, Mississippi 38901, or at the Dahomey National Wildlife Refuge Office, Box 381, Highway 446, Boyle, Mississippi 38730, or by mail from the above addresses.

2. We close the refuge to fishing from October 1 through February 28.

3. We allow fishing in bar pits along the Corps of Engineers levee only.

4. We prohibit possession of any weapon while fishing on the refuge. This does not include fishing knives unless they are longer than 3 inches (7.5 cm).

5. We prohibit possession or use of jugs, seines, nets, hand-grab baskets, slat traps/baskets, or any other similar devices and commercial fishing of any kind.

6. We allow trotlines, yo-yos, limb lines, crawfish traps, or any other similar devices for recreational use only, and you must tag or mark them with waterproof ink, legibly inscribed or legibly stamped on the tag with your full name and full residence address, including zip code. You must attend these devices a minimum of once daily. If you are not going to attend these devices, you must remove them from the refuge.

7. We prohibit snagging or attempting to snag fish.

8. We allow crawfishing.

9. We allow taking of frogs by Special Use Permit only.

* * * * *

8. In § 32.46 Nebraska by:

a. Adding the text of paragraph A. and the text of paragraph C. of Boyer Chute National Wildlife Refuge; and

b. Adding the text of paragraphs B. and C. of North Platte National Wildlife Refuge to read as follows:

§ 32.46 Nebraska.

* * * * *

Boyer Chute National Wildlife Refuge

A. Hunting of Migratory Game Birds. We allow hunting of ducks, geese, and coots on designated areas of the refuge subject to the following conditions:

1. You may access the refuge from 1½ hours before legal sunrise to 1 hour after legal sunset along the immediate shoreline and including the high bank of the Missouri River. You may access the hunting area by water or, if by land, only within the public use area of the Island Unit and only with shotgun cased and unloaded.

2. You must remove all blinds and decoys at the conclusion of each day's hunt.

3. You must adhere to all applicable State hunting regulations.

* * * * *

C. Big Game Hunting. We allow hunting of white-tailed deer subject to the following condition: We allow a mentored youth hunt on designated areas of the refuge subject to the guidelines set forth and administered by the State.

* * * * *

North Platte National Wildlife Refuge

* * * * *

B. Upland Game Hunting. We allow hunting of squirrel, rabbit, pheasant, State-defined furbearers, and coyote on designated areas of the refuge in accordance with State regulations subject to the following conditions:

1. We close the Lake Alice Unit to all public entry from October 15 through January 14.

2. Hunters must be 15 years of age or younger. A licensed hunter 19 years of age or older must accompany youth hunters. We prohibit adults accompanying youth hunters to hunt or carry firearms. The accompanying adult is responsible for ensuring that the hunter does not engage in conduct that would constitute a violation of refuge or State regulations.

3. We close the refuge to public use from legal sunset to legal sunrise. However, youth hunters and their adult guides may enter the designated hunting area 1 hour prior to legal sunrise.

4. We only allow dogs for pheasant-hunting on the refuge.

C. Big Game Hunting. We allow archery hunting of mule deer and white-tailed deer on designated areas of the refuge in accordance with State regulations subject to the following conditions:

1. We close the Lake Alice Unit to all public entry from October 15 through January 14.

2. We close the refuge to public use from legal sunset to legal sunrise. However, archery deer hunters may enter the designated hunting area 1 hour prior to legal sunrise and remain until 1 hour after legal sunset.

* * * * *

9. In § 32.56 Oregon by adding the text of paragraph D. of Bandon Marsh National Wildlife Refuge to read as follows:

§ 32.56 Oregon.

* * * * *

Bandon Marsh National Wildlife Refuge

* * * * *

D. Sport Fishing. We allow sport fishing in accordance with State regulations, on that portion of the refuge west of U.S. Highway 101.

* * * * *

10. In § 32.66 Virginia by adding the text of paragraph D. of Rappahannock River Valley National Wildlife Refuge to read as follows:

§ 32.66 Virginia.

* * * * *

Rappahannock River Valley National Wildlife Refuge

* * * * *

D. Sport Fishing. We allow fishing on designated areas of Wilna Pond in Richmond County subject to the following conditions:

1. As we implement the new fishing program at Wilna Pond, we intend to be open on a daily basis, legal sunrise to legal sunset. If unexpected law enforcement issues arise, we may restrict hours of access for fishing.

2. From March 15 through June 30, we allow fishing from the Wilna Pond pier only (no boat or bank fishing).

3. During the period when we open the Wilna Tract for deer hunting, we will close it to all other uses, including fishing.

4. We prohibit fishing by any means other than by use of one or more attended poles with hook and line attached.

5. We prohibit the use of lead fishing tackle.

6. We require catch and release fishing only for largemouth bass. Anglers may take other finfish species in accordance with State regulations.

7. We prohibit the take of any reptile, amphibian, or invertebrate species for use as bait or for any other purpose.

8. We prohibit the use of live minnows as bait.

9. We prohibit use of boats propelled by gasoline motors, sail, or mechanically operated paddle wheel. We only permit car-top boats; and we prohibit trailers.

10. Prescheduled environmental education field trips will have priority over other uses, including sport fishing, on the Wilna Pond pier at all times.

* * * * *

Dated: September 29, 2003.
Julie MacDonald,
Assistant Secretary for Fish and Wildlife and Parks.

[FR Doc. 03-25193 Filed 9-30-03; 3:56 pm]

BILLING CODE 4310-55-P